DEPARTMENT OF TRANSPORTATION

Federal Aviation Administration

Notice of Intent of Waiver With Respect to Land; Willow Run Airport, Detroit, Michigan

AGENCY: Federal Aviation Administration (FAA), DOT.

ACTION: Notice.

SUMMARY: The FAA is considering a proposal to change 22.5 acres of airport land from aeronautical use to non-aeronautical use and to authorize the sale of airport property located at Willow Run Airport, Detroit, Michigan. The aforementioned land is not needed for aeronautical use. The property is located on the east side of the airport, located west of Beck Road, south of D Street, and east of Third Street and is currently vacant land. The proposed sale will allow the Great Lakes Water Authority (GLWA) to construct and operate a new water pump transfer station that will service the immediate surrounding community.

DATES: Comments must be received on or before May 23, 2022.

ADDRESSES: Documents are available for review by appointment at the FAA Detroit Airports District Office, Alex Erskine, Program Manager, 11677 South Wayne Road, Suite 107, Romulus, MI 48174. Telephone: (734) 229-2927/Fax: (734) 229-2950 and Wayne County Airport Authority, 11050 Rogell Drive, Bldg. #602, Detroit, MI 48242.

Written comments on the Sponsor's request must be delivered or mailed to: Alex Erskine, Program Manager, Federal Aviation Administration, Detroit Airports District Office, 11677 South Wayne Road, Suite 107, Romulus, MI 48174. Telephone: (734) 229-2927/Fax: (734) 229-2950.

FOR FURTHER INFORMATION CONTACT: Alex Erskine, Program Manager, Federal Aviation Administration, Detroit Airports District Office, 11677 South Wayne Road, Suite 107, Romulus, MI 48174. Telephone: (734) 229-2927/Fax: (734) 229-2950.

SUPPLEMENTARY INFORMATION: In accordance with section 47107(h) of Title 49, United States Code, this notice is required to be published in the Federal Register 30 days before modifying the land-use assurance that requires the property to be used for an aeronautical purpose.

The property is currently vacant land with no current or proposed future aeronautical use. The land proposed for release and disposal was originally transferred by quitclaim deed to The Regents of the University of Michigan on January 15, 1947 jointly between the United States of America and Reconstruction Finance Corporation, both acting by and through the War Assets Administrator under and pursuant to Executive Order 9689, dated January 31, 1946, and the powers and authority contained in the provisions of the Surplus Property Act of 1944, as amended. On January 31, 1977, the subject property was transferred by quitclaim deed to the Board of County Road Commissioners of the County of Wayne, Michigan. The Detroit County Airport Authority plans to sell the subject property at fair market value to the GLWA to construct and operate a new Ypsilanti water pump transfer station that will service the immediate surrounding community, and potentially the City of Ann Arbor in the future, with drinking water.

The disposition of proceeds from the sale of the airport property will be in accordance with FAA's Policy and Procedures Concerning the Use of Airport Revenue, published in the Federal Register on February 16, 1999 (64 FR 7696).

This notice announces that the FAA is considering the release of the subject airport property at the Willow Run Airport, Detroit, Michigan from federal land covenants, subject to a reservation for continuing right of flight as well as restrictions on the released property as required in FAA Order 5190.6B section 22.16. Approval does not constitute a commitment by the FAA to financially assist in the disposal of the subject airport property nor a determination of eligibility for grant-in-aid funding from the FAA.

A parcel of land located in the southeast quarter of section 8, T.3S., R.8E., Van Buren Township, Wayne County, Michigan described as commencing at the East corner of Section 8, T.3S, R.8E., Van Buren Township, Wayne County, Michigan; thence along the East Line of said Section 8, South 01 Degrees 06 minutes 52 seconds East 832.26 feet; thence south 88 degrees 01 minutes 15 seconds West 33.00 feet to the point of beginning; thence along the West line of Beck Road right of way South 01 degrees 06 minutes 52 seconds East 773.47 feet; thence South 88 degrees 01 minutes 15 seconds West 1262.12 feet; thence North 01 degrees 54 minutes 04 seconds West 773.38 feet; thence North 88 degrees 01 minutes 15 seconds East 1272.74 feet to the point of beginning. Containing 980,205.0 square feet and/or 22.5 acres of land. Subject to reservations, restrictions and easements of records, if any.

Issued in Romulus, Michigan, on April 15, 2022.
Stephanie Swann,
Deputy Manager, Detroit Airports District Office, FAA, Great Lakes Region.

[FR Doc. 2022-08490 Filed 4-20-22; 8:45 am]

BILLING CODE 4910-13-P